DEPARTMENT OF COMMERCE

National Oceanic and Atmospheric Administration

RIN 0648-XV06

New England Fishery Management Council; Public Meeting

AGENCY: National Marine Fisheries Service (NMFS), National Oceanic and Atmospheric Administration (NOAA), Commerce.

ACTION: Notice; public meeting.

SUMMARY: The New England Fishery Management Council's (Council) Joint Groundfish/Scallop Committee will meet to consider actions affecting New England fisheries in the exclusive economic zone (EEZ).

DATES: The meeting will be held on Monday, April 5, 2010 at 9 a.m.

ADDRESSES: The meeting will be held at the Seaport Hotel, One Seaport Lane, Boston, MA 02210; telephone: (617) 385-4000; fax: (617) 385-4001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Joint Groundfish/Scallop Committee of the New England Fishery Management Council will meet to begin the preparation of a management action to facilitate the transfer of yellowtail flounder allocations between the groundfish and scallop industries. Yellowtail flounder is a target species for groundfish vessels, and is an incidental catch for scallop vessels. With the implementation of Annual Catch Limits in 2010, fishing opportunities of both fleets can be constrained by decisions on the how yellowtail flounder is allocated. Developing a mechanism to allow the transfer of yellowtail flounder between these fisheries may facilitate their respective activities and may reduce allocation issues between the two fleets. The Committee will develop a problem statement for the action, identify measurable goals and objectives, and will identify management alternatives. One alternative the Committee will probably develop would allow the formation of sectors within the scallop fishery for the sole purpose of exchanging yellowtail flounder with groundfish sectors established under the provisions of the Northeast Multispecies Fishery Management Plan. Other alternatives may also be developed by the Committee. Committee recommendations will be presented to the Council at a future date.

2. Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 9, 2010.
Tracey L. Thompson,
Acting Director, Office of Sustainable Fisheries, National Marine Fisheries Service.

[FR Doc. 2010-5448 Filed 3-11-10; 8:45 am]

BILLING CODE 3510-22-S